DEPARTMENT OF THE TREASURY

United States Mint

FEDERAL RESERVE SYSTEM

Coin Users Group Forum

AGENCIES: United States Mint and Board of Governors of the Federal Reserve System.

ACTION: Notice of coin users group forum.

SUMMARY: Pursuant to the Presidential $1 Coin Act of 2005 (Pub. L. 109-145, 31 U.S.C. 5112(p)(3)(A)), the United States Mint and the Board of Governors of the Federal Reserve System (Board) announce a coin users group forum at which United States Mint and Board officials will have the opportunity to consult with leaders of businesses, agencies, and industries involved in the use and distribution of circulating coins, especially $1 coins.

Date of Forum: Thursday, June 8, 2006.

ADDRESSES: The United States Mint, 801 Ninth Street, NW., Washington, DC, Second floor

FOR FURTHER INFORMATION CONTACT: Mary Lhotsky, Office of External Relations and Communications, United States Mint, by calling (202) 354-7630 or by e-mail at mlhotsky@usmint.treas.gov, or Eugenie E. Foster, Division of Reserve Bank Operations and Payment Systems, Board of Governors of the Federal Reserve System, by calling (202) 736-5603 or by e-mail at Eugenie.E.Foster@frb.gov.

SUPPLEMENTARY INFORMATION: The Presidential $1 Coin Act of 2005 requires a redesign of the $1 coin as a multi-year circulating commemorative in the model of the 50 State Quarters® program. The legislation requires the Secretary of the Treasury (Secretary) and the Board to consult regularly with a coin users group. The purpose of these consultations is to obtain individual perspectives from various stakeholders representing businesses, agencies, and other interested parties. This information will assist the Secretary and the Board in accurately gauging the demand for coins and anticipating and eliminating obstacles to the easy and efficient distribution and circulation of $1 coins as well as other coins. Holding these forums is one of several measures that 31 U.S.C. 5112(p) now requires the Secretary and the Board to take to ensure that adequate supplies of coins are available for commerce and collectors. This is not a public meeting, and attendance is by invitation only. Persons interested in attending the forum should use the contact information in this notice.

Authority: 31 U.S.C. 5112(p)(3)(A)

Dated: May 22, 2006.
David A. Lebryk,
Deputy Director, United States Mint.

By order of the Board of Governors of the Federal Reserve System, May 23, 2006.
Jennifer J. Johnson,
Secretary of the Board.

[FR Doc. 06-4905 Filed 5-26-06; 8:45 am]

BILLING CODE 6210-01-P; 4810-37-P